FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201422.

Agreement Name: CMA CGM/COSCO Shipping/ONE Vessel Sharing Agreement.

Parties: CMA CGM S.A.; COSCO Shipping Lines Co., Ltd.; Ocean Network Express Pte. Ltd.

Filing Party: Draughn Arbona; CMA CGM.

Synopsis: This Agreement authorizes share liner shipping services operated by CMA CGM, COSCO SHIPPING and ONE in the trade between the East Coast of the United States, on one hand, and ports in Colombia, Ecuador, Peru, and Chile, on the other hand, utilizing vessels contributed, and independently operated, by each Party.

Proposed Effective Date: 03/26/2024.

Location: https://www2.fmc.gov/FMC.Agreements.Web/Public/AgreementHistory/86555.

Dated: March 29, 2024.
Alanna Beck,
Federal Register Alternate Liaison Officer.

[FR Doc. 2024-07061 Filed 4-2-24; 8:45 am]

BILLING CODE 6730-02-P